OVERSEAS PRIVATE INVESTMENT CORPORATION

[No. 3210-01-M]

Sunshine Act Meeting Notice

AGENCY: U.S. International Development Finance Corporation, Overseas Private Investment Corporation.

TIME AND DATE: Wednesday, December 11, 2019 1:30 p.m. (OPEN Portion), 1:45 p.m. (CLOSED Portion).

PLACE: Offices of the Corporation, Twelfth Floor Board Room, 1100 New York Avenue NW, Washington, DC.

STATUS: Meeting OPEN to the Public.

MATTERS TO BE CONSIDERED:

1. Chief Executive Officer's Report

2. Minutes of the Open Session of the June 12, 2019, Board of Directors Meeting

FURTHER MATTERS TO BE CONSIDERED (Closed to the Public 1:15 p.m.)

1. Reports

2. Pending Projects

ATTENDANCE AT THE OPEN PORTION OF THE MEETING: Members of the public planning to attend the the open portion of the Board meeting are asked to register no later than Monday, December 9, 2019. To register, attendees must email Catherine.Andrade@opic.gov with the attendee's full name as it appears on their official, government-issued identification. Access will not be granted to the open portion of the Board meeting without official, government-issued identification.

SUPPLEMENTARY INFORMATION: The Better Utilization of Investments Leading to Development (BUILD) Act of 2018, Public Law 115-254 creates the U.S. International Development Finance Corporation (DFC) by bringing together the Overseas Private Investment Corporation (OPIC) and the Development Credit Authority (DCA) office of the U.S. Agency for International Development (USAID). Section 1465(a) of the Act tasks OPIC staff with assisting DFC in the transition. Section 1466(a)-(b) provides that all completed administrative actions and all pending proceedings shall continue through the transition to the DFC. Accordingly, OPIC is issuing this Sunshine Act Meeting notice and on behalf of the DFC.

CONTACT PERSON FOR MORE INFORMATION: Information on the meeting may be obtained from Catherine F.I. Andrade at (202) 336-8768, or via email at Catherine.Andrade@opic.gov.

Dated: December 2, 2019.
Catherine Andrade,
Corporate Secretary, U.S. International Development Finance Corporation.

[FR Doc. 2019-26258 Filed 12-2-19; 4:15 pm]

BILLING CODE 3210-01-P